Proclamation 7559 of May 10, 2002

National Defense Transportation Day and National Transportation Week, 2002

By the President of the United States of America

A Proclamation

The importance of America's transportation system became evident to all Americans on September 11, 2001. Airliners were diverted, airports closed, and travelers were stranded for days as transportation systems across the country were disrupted. In the aftermath of September 11, the men and women in the transportation industry have helped restore function and trust to a system that was traumatized. Today, Americans and America's goods and services are being more safely moved to their destinations, as our communities continue the process of important restructuring.

We have helped secure our transportation system with the passage of the Aviation and Transportation Security Act, which greatly enhanced the protections for America's passengers and goods. And we are determined to ensure that Americans have the transportation system and mobility that is necessary for a vibrant economy and meaningful quality of life.

We live in a time of unprecedented travel, when goods and services, regardless of origin, can be available in a short amount of time. Thanks to imagination, innovation, and investment in transportation, we can safely commute to work, receive overnight mail, buy fresh fruit and vegetables, and travel with relative ease to destinations around the world. We also continue to make progress in developing a transportation system that offers choices and protects the environment through cleaner, more fuel-efficient vehicles and new, environmentally sound infrastructure.

To recognize Americans who work in transportation and who contribute to our Nation's prosperity, defense, and progress, the United States Congress, by joint resolution approved May 16, 1957, as amended, (36 U.S.C. 120), has designated the third Friday in May of each year as “National Defense Transportation Day,” and, by joint resolution approved May 14, 1962, as amended, (36 U.S.C. 133), declared that the week during which that Friday falls be designated as “National Transportation Week.”

NOW, THEREFORE, I, GEORGE W. BUSH, President of the United States of America, do hereby proclaim Friday, May 17, 2002, as National Defense Transportation Day and May 12 through May 18, 2002, as National Transportation Week. I encourage all Americans to recognize how our modern transportation system has enhanced our economy and contributed to our freedom.

IN WITNESS WHEREOF, I have hereunto set my hand this tenth day of May, in the year of our Lord two thousand two, and of the Independence of the United States of America the two hundred and twenty-sixth.

B

[FR Doc. 02-12298

Filed 5-14-02; 8:45 am]

Billing code 3195-01-P